DEPARTMENT OF AGRICULTURE

Rural Housing Service

Notice of Request for Extension of a Currently Approved Information Collection

AGENCY: Rural Housing Service (RHS), USDA.

ACTION: Proposed collection; comments requested.

SUMMARY: In accordance with the Paperwork Reduction Act of 1995, this Notice announces the Rural Housing Service's intention to request an extension for a currently approved information collection in support of the program for “Section 515 Multifamily Preservation and Revitalization (MPR) Demonstration Program for Fiscal Year 2006”.

DATES: Comments on this Notice must be received by July 18, 2016 to be assured of consideration.

FOR FURTHER INFORMATION CONTACT: Dean Greenwalt, Special Projects Coordinator, Multi-Family Housing and Preservation and Direct Loan Division, STOP 0782—Room 1263S, 1400 Independence Avenue SW., Washington, DC 20250.

SUPPLEMENTARY INFORMATION: Title: Section 515 Multifamily Preservation and Revitalization (MPR) Demonstration Program.

OMB Number: 0575-0190.

Expiration Date of Approval: September 30, 2016.

Type of Request: Extension of currently approved information collection.

Abstract: The Agriculture, Rural Development, Food and Drug Administration, and Related Agencies Appropriation Act, 2006 (Pub. L. 109-97) provides funding for, and authorizes Rural Development to conduct a demonstration program for the preservation and revitalization of the Section 515 Multi-Family Housing portfolio. Section 515 of the Housing Act of 1949 (42 U.S.C. 1485) provides Rural Development the authority to make loans for low-income Multi-Family Housing and related facilities.

Rural Development refers to this program as Multifamily Preservation and Revitalization (MPR) Demonstration Program. A Notice of Solicitation for Applications (NOSA) sets forth the eligibility and application requirements. Information will be collected from applicants and grant recipients by Rural Development staff in its Local, Area, State, and National Offices. This information will be used to determine applicant eligibility for this demonstration program. If an applicant proposal is selected, that applicant will be notified of the selection and given the opportunity to submit a formal application.

This MPR demonstration program continues to adjust the various opportunities available to demonstrate effective methods of providing the needed financial resources not otherwise available to current owners and transferees. Using alternative forms of financing, these owners will preserve existing Agency-financed Rural Rental Housing and Farm Labor Housing and extend the property's useful life for tenants meeting RD eligibility requirements. Since the inception of the MPR demonstration program in 2006, revisions and adjustments in the nature of the program have necessitate certain revisions in the context, formatting and use of the original forms in this package to permit RD's ability to provide these needed financial opportunities. To meet current Agency NOSA, regulatory and industry standards, the following forms are being revised, reformatted and/or renamed in some instances to provide clarity and consistency in their practical use and application:

• MPR Pre-Application

• Debt Deferral Agreement

• Restrictive-Use Covenant

• Restrictive-Use Subordination Agreement

• MPR Grant Agreement

• MPR Loan and Grant Resolution (non-profit corporation)

• Restructuring Conditional Commitment (renamed: MPR Offer and Conditional Commitment)

• Addendum to Debt Deferral Agreement

• Subordination Agreement

Estimate of Burden: Public reporting burden for this collection of information is estimated to average 1 hour per response.

Respondents: Individuals, partnerships, public and private non-profit corporations, agencies, institutions, organizations, and Indian tribes.

Estimated Number of Respondents: 1,500.

Estimated Number of Responses per Respondent: 1.

Estimated Number of Responses: 11,610.

Estimated Total Annual Burden on Respondents: 10,549.

Copies of this information collection can be obtained from Jeanne Jacobs, Regulations and Paperwork Management Branch, Support Services Division at (202) 692-0040.

Comments: Comments are invited on: (a) Whether the proposed collection of information is necessary for the proper performance of the functions of Rural Development, including whether the information will have practical utility; (b) the accuracy of Rural Development's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Support Services Division, STOP 0742, 1400 Independence Avenue SW., Washington, DC 20250. All responses to this Notice will be summarized and included in the request for OMB approval. All comments will become a matter of public record.

Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) By mail: U.S. Department of Agriculture, Office of the Assistant Secretary for Civil Rights, 1400 Independence Avenue SW., Washington DC 20250-9410;

(2) Fax: (202) 690-7442; or

(3) Email: program.intake@usda.gov.

USDA is an equal opportunity provider and employer.

Dated: May 13, 2016.
Tony Hernandez,
Administrator, Rural Housing Service.

[FR Doc. 2016-11909 Filed 5-18-16; 8:45 am]

BILLING CODE 3410-XV-P